DEPARTMENT OF TRANSPORTATION

Federal Highway Administration

Notice of Final Federal Agency Actions on Proposed Transportation Project in California

AGENCY: Federal Highway Administration (FHWA).

ACTION: Notice of limitation on claims for judicial review.

SUMMARY: The FHWA, on behalf of the California Department of Transportation (CADOT), is issuing this notice to announce actions taken by CADOT, as a cooperating agency, that are final agency actions. These actions relate to CADOT's right of way (ROW) involved in the proposed light rail transit (LRT) line that will extend through southeast Los Angeles County. The project will encroach onto CADOT ROW at four freeways: Interstate (I) 605, State Route (SR) 91, I-710 via an at-grade configuration, and I-105 via an aerial configuration.

DATES: By this notice, the FHWA, on behalf of CADOT, is advising the public of final agency actions subject to 23 U.S.C. 139(l)(1). A claim seeking judicial review of the Federal Agency actions on the listed highway project will be barred unless the claim is filed on or before January 5, 2026. If the Federal law that authorizes judicial review of a claim provides a time period of less than 150 days for filing such claim, then that shorter time period still applies.

ADDRESSES: The Record of Decision (ROD) issued by CADOT as a cooperating agency is solely for the project's encroachment into CADOT ROW, and additional project documents can be viewed and downloaded from the project website at: https://urldefense.com/v3/__https:/www.dropbox.com/scl/fo/ybljyj9b9ws8p2ftyclmd/ADc9b38TcD4Yn1SOR30wv5w/Reports*20and*20Info?rlkey=son9cvk90twv5dcvyr05i4van&Good evening,The House Calendar for Monday, July 21, 2025, has been processed.Thank you,e=1&subfolder_nav_tracking=1&st=t4tatrrg&dl=0__;JSU!!LWi6xHDyrA!7yoeQts-zx-4IOiFkgIBopFMD7NeZMBSYfmQOJ9CTI6ULHl0EUyv8zo8BKxdRQz6zG18_wCK35YZF-Y$.

FOR FURTHER INFORMATION CONTACT: Thoa Le, Senior Environmental Scientist, telephone: (213) 269-0238, email: thoa.le@dot.ca.gov during normal business hours from 9 a.m. to 5 p.m.

SUPPLEMENTARY INFORMATION: Effective July 1, 2007, the FHWA assigned, and the CADOT assumed, environmental responsibilities for this project pursuant to 23 U.S.C. 327. Notice is hereby given that CADOT has taken final agency actions subject to 23 U.S.C. 139(l)(1) by issuing licenses, permits, or approvals for the proposed LRT project. The actions by CADOT and the laws under which such actions were taken reference potential impacts and determinations as described in the adopted Final Environmental Impact Statement (FEIS) for the project, which was approved by FTA on March 28, 2024; the ROD issued by Caltrans on June 17, 2025; and in other project records for the listed project. The CADOT ROD and other documents for the listed project are available by contacting CADOT at the address provided above.

The project subject to this notice is:

Project Location: The project limits include encroachment onto CADOT ROW at four freeways: I-605, SR-91, I-710 via an at-grade configuration, and I-105 via at an aerial configuration. These crossings are located in the Cities of Cerritos, Bellflower, South Gate, and Paramount.

Project Actions: This notice applies to the CADOT ROD and all agency licenses, permits, or approvals for the listed project as of the issuance date of this notice and all laws under which such actions were taken, including but not limited to:

1. General: National Environmental Policy Act (NEPA) [42 U.S.C. 4321 et seq.]; Federal-Aid Highway Act (FAHA) [23 U.S.C. 109 and 23 U.S.C. 128]; 23 CFR part 771.

2. Air: Clean Air Act (CAA) [42 U.S.C. 7401-7671(q)], with the exception of project level conformity determinations [42 U.S.C. 7506].

3. Noise: Noise Control Act of 1972 [42 U.S.C. 4901-4918]; 23 CFR part 772.

4. Land: Section 4(f) of the Department of Transportation Act of 1966 [23 U.S.C. 138 and 49 U.S.C. 303]; 23 CFR part 774; Land and Water Conservation Fund (LWCF) [54 U.S.C. 200302-200310].

5. Wildlife: Endangered Species Act (ESA) [16 U.S.C. 1531-1544 and 1536]; Marine Mammal Protection Act [16 U.S.C. 1361-1423h], Anadromous Fish Conservation Act [16 U.S.C. 757(a)-757(f)]; Fish and Wildlife Coordination Act [16 U.S.C. 661-667(d)]; Migratory Bird Treaty Act (MBTA) [16 U.S.C. 703-712]; Magnuson-Stevenson Fishery Conservation and Management Act of 1976, as amended [16 U.S.C. 1801-1891d], with Essential Fish Habitat requirements [16 U.S.C. 1855(b)(2)].

6. Historic and Cultural Resources: Section 106 of the National Historic Preservation Act of 1966, as amended [54 U.S.C. 3006101 et seq.]; Archaeological Resources Protection Act of 1979 (ARPA) [16 U.S.C. 470(aa)-470(II)]; Preservation of Historical and Archaeological Data [54 U.S.C.312501-312508]; Native American Grave Protection and Repatriation Act (NAGPRA) [25 U.S.C. 3001-3013; 18 U.S.C. 1170].

7. Social and Economic: Civil Rights Act of 1964 [42 U.S.C. 2000 d-2000d-1]; American Indian Religious Freedom Act [42 U.S.C. 1996]; Farmland Protection Policy Act (FPPA) [7 U.S.C. 4201-4209].

8. Wetlands and Water Resources: Clean Water Act (Section 319, Section 401, Section 404) [33 U.S.C. 1251-1387]; Coastal Barriers Resources Act (CBRA) [16 U.S.C. 3501-3510]; Coastal Zone Management Act (CZMA) [16 U.S.C. 1451-1466]; Safe Drinking Water Act (SDWA) [42 U.S.C. 300f-300j-26]; Rivers and Harbors Act of 1899 [33 U.S.C. 401-406]; Wild and Scenic Rivers Act [16 U.S.C. 1271-1287]; Emergency Wetlands Resources Act [16 U.S.C. 3921, 3931]; Wetlands Mitigation, [23 U.S.C. 119(g) and 133(b)(3)]; Flood Disaster Protection Act [42 U.S.C. 4001-4130].

9. Hazardous Materials: Comprehensive Environmental Response, Compensation, and Liability Act (CERCLA) [42 U.S.C. 9601-9675]; Superfund Amendments and Reauthorization Act of 1986 (SARA); Resource Conservation and Recovery Act (RCRA) [42 U.S.C. 6901-6992(k)].

10. Executive Orders: E.O. 11990 Protection of Wetlands; E.O. 11988 Floodplain Management; E.O. 11593 Protection and Enhancement of Cultural Resources; E.O. 13007 Indian Sacred Sites; E.O. 13287 Preserve America; E.O. 11514 Protection and Enhancement of Environmental Quality; E.O. 13112 Invasive Species.

(Catalog of Federal Domestic Assistance Program Number 20.205, Highway Planning and Construction. The regulations implementing Executive Order 12372 regarding intergovernmental consultation on Federal programs and activities apply to this program.)

(Authority: 23 U.S.C. 139(l)(1)).

Antonio Johnson,
Director of Planning, Environmental and Right of Way, Federal Highway Administration, California Division.

[FR Doc. 2025-14974 Filed 8-6-25; 8:45 am]

BILLING CODE 4910-RY-P